DEPARTMENT OF THE INTERIOR

Fish and Wildlife Service

Record of Decision on Sea Lamprey Control Program in Lake Champlain

AGENCY: Fish and Wildlife Service, Department of the Interior.

ACTION: Notice.

SUMMARY: Pursuant to the National Environmental Policy Act (NEPA), the U.S. Fish and Wildlife Service (Service) issues this Record of Decision (ROD) upon consideration of the Final Supplemental Environmental Impact Statement (FSEIS) for the sea lamprey control proposal in Lake Champlain.

The Service has considered alternatives and evaluated their impacts for controlling sea lamprey in Lake Champlain as presented in the FSEIS. We have solicited public and agency comments and considered these comments in the NEPA process and in making our decision. Based on that evaluation and review, the Service has decided to select the Proposed Action alternative for implementation as described in the FSEIS. The determination was based on a thorough analysis of environmental, social, economic, and other considerations.

ADDRESSES: Additional copies of this ROD may be requested from Mr. Dave Tilton, Project Leader, U.S. Fish and Wildlife Service Lake Champlain Office, 11 Lincoln St., Essex Junction, Vermont 05452. Alternatively, copies may be requested electronically at: dave_tilton@fws.gov

FOR FURTHER INFORMATION CONTACT: Mr. Dave Tilton, Project Leader, U.S. Fish and Wildlife Service Lake Champlain Office, 11 Lincoln St., Essex Junction, Vermont 05452, 802-872-0629, FAX: 802-872-9704.

Background

The intent of this action is to achieve and maintain the greatest practical reductions in Lake Champlain sea lamprey populations while avoiding and minimizing significant adverse effects to other fish and wildlife and public uses in the Lake Champlain basin. Sea lamprey are primitive marine invaders to Lake Champlain. They are parasitic fish that feed on the body fluids of other fish resulting in reduced growth and often the death of host fish. A substantial body of information collected on Lake Champlain indicates sea lamprey have a profound negative impact upon the lake's fishery resources and have suppressed efforts to establish new and historical sportfisheries. In 1990, the Service, New York State Department of Environmental Conservation (NYSDEC), and Vermont Department of Fish and Wildlife (VTDFW), initiated an 8-year experimental sea lamprey control program for Lake Champlain. The experimental program treated tributaries and deltas of Lake Champlain with the chemical lampricides TFM and Bayluscide, which substantially reduced larval sea lamprey numbers in treated waters. The program included monitoring and assessment of the effects of sea lamprey reduction on the characteristics of certain fish populations, the sport fishery, and the area's growth and economy. A set of 30 evaluation standards was established. Overall, the experimental sea lamprey control program met or exceeded the majority of the standards demonstrating a successful reduction in sea lamprey population. In addition to this evaluation, the cooperating agencies assessed the effects of the program on nontarget organisms.

Two rounds of treatments were planned for each significantly infested stream and delta. From 1990 through 1996, 24 TFM treatments were conducted on 14 Lake Champlain tributaries, and 9 Bayluscide (5 percent granular) treatments were conducted on 5 deltas. A cumulative total of approximately 141 stream miles and 1,220 delta acres were treated. In summary, trap catches of spawning-phase sea lamprey declined by 80 to 90 percent; nest counts were reduced by 57 percent. Sixteen of twenty-two TFM treatments reduced ammocoetes at index stations to less than 10 percent of pre-treatment levels. Eight of the nine Bayluscide treatments resulted in mean mortality rates over 85 percent among caged ammocoetes. Relatively small numbers of nontarget amphibian and fish species were killed. Adverse effects on nontarget species were higher for Bayluscide treatments than TFM. Native mussels, snails, and some other macroinvertebrates were significantly affected after the 1991 Bayluscide treatments of the Ausable and Little Ausable deltas in New York. However, they recovered to pre-treatment levels within 4 years. American brook lamprey also experienced substantial treatment-related mortality. Yet, the finding of American brook lamprey in second-round treatments in each stream where they were negatively affected during the first round, suggested survival or immigration was adequate to maintain their presence in the streams. Wounding rates on lake trout and landlocked Atlantic salmon were reduced in the main lake basin, and catches of both species increased. A significant increase in survival of 3-to 4-year lake trout was noted; survival of older fish improved but did not change significantly. Returns of Atlantic salmon to tributaries increased significantly after treatment. Changes in wounding rates on brown and rainbow trout could not be evaluated, but angler catches increased since 1990. Catch per unit effort of rainbow smelt, the major forage species for salmonids, decreased significantly at one of two sampling stations in the main lake basin and in Malletts Bay, but not at other locations; length-at-age also decreased at most sites. Evaluation of angler responses to the program indicated a favorable 3.5:1 economic benefit:cost ratio.

“A Comprehensive Evaluation of an Eight Year Program of Sea Lamprey Control in Lake Champlain” provides a detailed description of the results of the project. It is available on the Service web-site at, www.fws.gov/r5lcfwro/lamprey/lamprey.html., or from the contact for further information listed above.

Based on the results of the experimental program, the Lake Champlain Fish and Wildlife Management Cooperative comprised of the Service, the NYSDEC, and the VTDFW concluded that a long-term sea lamprey control program was warranted.

The public participation process on the proposal began in 1999. The Notice of Intent to prepare the Supplemental Environmental Impact Statement (SEIS) was published in the November 16, 1999, Federal Register. The Notice of Availability of the Draft Supplemental Environmental Impact Statement (DSEIS) was published on March 15, 2001. The comment period on the DSEIS ended on April 30, 2001. The Notice of Availability of the FSEIS appeared in the September 6, 2001, Federal Register. Four scoping meetings and two public meetings on the FSEIS were held, divided equally between Vermont and New York.

The Selected Alternative

The selected alternative is the proposed action as described in the FSEIS. This alternative implements a long-term sea lamprey control program based on the principals of integrated pest management. The selected alternative will implement a tributary specific approach, in which all viable sea lamprey control techniques will be screened for use in each infested stream system.

This action expands sea lamprey control beyond the experimental program implemented in 1990, to include several untreated streams in New York, Vermont, and Quebec, Canada, in addition to those waters previously treated in the experimental program. Under this approach, many of the infested streams will be treated with lampricides, but total reliance on lampricides will be avoided through the use of barriers and/or traps where feasible. Sea lamprey producing streams currently designated for potential control include: The Great Chazy River including Bullis Brook, the Saranac, Salmon, Little Ausable, and Ausable River including Dry Mill Brook, the Bouquet River, Beaver and Mullen Brook, Putnam Creek, Mt. Hope and Greenland Brook, Lewis Creek, the Laplatte River, the Winooski River including Sunderland Brook, Mallets Creek including Indian Brook, Trout Brook, Stone Bridge Brook, the Missisquoi River, Youngman Brook, and Pike River including Morpion Stream.

Tentatively, this new sea Lamprey control effort is scheduled to begin in the fall of 2001, at Lewis Creek, Vermont. All control efforts will comply with applicable Vermont and New York permit requirements and be conducted in conformance with conditions designated through the permit process.

The selected alternative will defer lampricide treatment of the Poultney and Hubbardton Rivers for 5 years to fully assess potential alternatives to lampricides and the effects of the initiated portion of the sea lamprey control program on wounding rates. If the wounding rate objectives are not attained and feasible alternative control methods are not available, lampricide treatments will be implemented for both tributaries following the 5-year period.

Other Alternatives Considered

Three alternatives including the selected alternative, were considered in the FSEIS.

Alternative 2. This alternative would maintain reduced sea lamprey wounding rates attained during the experimental control program. This alternative and its methodologies would rely on the use of lampricides for maintaining reduced sea lamprey numbers, and restrict the program primarily to those rivers and deltas that were treated in the experimental program. This alternative ignores additional control techniques and locations included in the selected alternative that may offer nonchemical control methods. Under this alternative TFM and Bayluscide treatments would be conducted on sea lamprey infested streams and deltas. Lampricide treatment of each stream or delta would be scheduled according to sea lamprey larval transformation rates, or in most cases every fourth year.

Alternative 3. This alternative would abandon sea lamprey control efforts as a fisheries management tool for Lake Champlain. The most significant impact of this alternative is that it would never achieve the projected harvest, recreational and economic benefits which are possible with effective control of sea lamprey. This alternative would eliminate any adverse impacts associated with the selected alternative including preventing nontarget mortality on aquatic species associated with the use of lampricides.

Mitigation of Impacts

As discussed in the FSEIS, the selected alternative includes a variety of measures to minimize the adverse environmental, social and economic impacts. These measures include use of lampricide treatments and nonchemical control methods such as barriers and trapping. Mitigation measures include, but are not limited to, issuing advisories against water use until the lampricide plume has dissipated (24 hours after the concentration of TFM has decreased below 20 ppb, or after pre-established time intervals allowing for thorough dissipation of Bayluscide have expired), providing commercially bottled drinking water to households that withdraw water for drinking and other household purposes, applying lampricides in waters inhabited by endangered and threatened species at concentrations shown not to impact such species, regular monitoring of lampricide concentrations during applications and prompt adjustment of rates if necessary to minimize nontarget fish mortalities.

Additional mitigation measures will be applied through the permit conditions issued by the NYSDEC, the Vermont Department ofEnvironmental Consevation (VTDEC), the Vermont Agency of Natural Resources (VTANR), the VTDFW , Adirondack Park Agency (APA), Quebec Ministry of Environment and other applicable Canadian regulatory agencies.

Findings and Decisions

Having reviewed and considered the FSEIS for sea lamprey control in Lake Champlain and the public comments thereon, the Service finds as follows:

(1) The requirements of NEPA and implementing the Council on Environmental Quality regulations have been satisfied.

(2) Statutory authority for the Service's funding of and participation in the project exists under the Federal Aid in Sport Fish Restoration Act of August 9, 1950 (64 Stat. 430), as amended (16 U.S.C. 777-777l), the Fish and Wildlife Coordination Act, 16 U.S.C. 661-666 and the Lake Champlain Special Designation Act of 1990, P.L. 101-596.

(3) Consistent with social, economic and environmental considerations from among the reasonable alternatives thereto, the selected alternative is in the best interest for the resource and citizens of the States of New York and Vermont and one that minimizes or avoids adverse effects to the maximum extent practicable.

(4) Consistent with the environmental analysis provided in the FSEIS, adverse environmental effects will be minimized or avoided by incorporating as conditions the mitigation measures identified in the proposed action in the FSEIS and its supporting appendices.

(5) Consistent with the Purpose and Need Statement of the FSEIS, the Service establishes the following as the program objectives for the selective alternative: Achieve and maintain lamprey wounding rates at or below 25 wounds per lake trout, ideally 10 wounds per 100 lake trout; 15 wounds per 100 landlocked salmon, ideally 5 wounds per 100 landlocked salmon, and 2 wounds per 100 walleye, ideally less than 1 wound per 100 walleye. Attain wounding rate objectives within 5 years of full implementation of the selected alterative.

The decision to implement this alternative is subject to the following conditions:

a. All applicable regulatory requirements and approvals will be satisfied or obtained.

b. All applicable State and Provincial permit conditions are hereby adopted as part of this finding and will be met.

c. All studies and other conditions contained in the FSEIS proposed action alternative are adopted by the Service.

d. Conditions of b and c above will be incorporated into the NYSDEC and VTDFW Federal Aid grant agreement for this project.

This Record of Decision will serve as the written facts and conclusions relied on in reaching this decision. This Record of Decision was approved by the Acting Regional Director of the Service on October 9, 2001.

Dated: October 9, 2001.
Richard O. Bennett,
Acting Regional Director, Region 5, U.S. Fish and Wildlife Service.

[FR Doc. 01-27431 Filed 10-31-01; 8:45 am]

BILLING CODE 4310-55-P